DEPARTMENT OF TRANSPORTATION

Federal Aviation Administration

Third Meeting: RTCA Special Committee 224: Airport Security Access Control Systems

AGENCY: Federal Aviation Administration (FAA), DOT.

ACTION: Notice of RTCA Special Committee 224 meeting: Airport Security Access Control Systems (Update to DO-230B).

SUMMARY: The FAA is issuing this notice to advise the public of a meeting of RTCA Special Committee 224: Airport Security Access Control Systems.

DATES: The meeting will be held January 13, 2011, from 10 a.m. to 5 p.m.

ADDRESSES: The meeting will be held at RTCA, Inc., 1828 L Street, NW., Suite 805, MacIntosh—NBAA Room and Hilton—ATA Room, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 224: Airport Security Access Control Systems (Update to DO-230B):

Agenda

January 13, 2011

• Welcome/Introductions/Administrative Remarks.

• Review/Approve Summary—Second Meeting.

• Report on Security Construction Guidelines Process.

• Workgroup Reports.

• Credentialing.

• PACS.

• Biometrics.

• Communications.

• Video.

• Other Input from Members.

• Work Objectives for Next Plenary.

• Other Business.

• Establish Agenda for Next Meeting.

• Date and Place of Next Meeting.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 16, 2010.
Robert L. Bostiga,
RTCA Advisory Committee.

[FR Doc. 2010-32245 Filed 12-22-10; 8:45 am]

BILLING CODE 4910-13-P